DEPARTMENT OF THE INTERIOR

Fish and Wildlife Service

[FWS-R8-ES-2018-N048; FXES11130800000-178-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (ESA) prohibits activities with endangered and threatened species unless a Federal permit allows such activity. The ESA also requires that we invite public comment before issuing recovery permits to conduct certain activities with endangered species.

DATES: Comments on these permit applications must be received on or before June 22, 2018.

ADDRESSES: Written data or comments should be submitted to the Endangered Species Program Manager, U.S. Fish and Wildlife Service, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Endangered Species Act (ESA; 16 U.S.C. 1531 et seq.). We seek review and comment from local, State, and Federal agencies and the public on the following permit requests

Applicants

Permit No. TE-204436

Applicant: Johanna Kisner, Orcutt, California

The applicant requests a permit renewal to take (harass by survey, capture, handle, and release) the tidewater goby (Eucyclogobius newberryi) in conjunction with survey activities throughout the range of the species in California for the purpose of enhancing the species' survival.

Permit No. TE-185595

Applicant: Kelly Bayne, Sacramento, California

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); and take (harass by survey, capture, handle, and release) the California tiger salamander (Santa Barbara County and Sonoma County Distinct Population Segment (DPS)) (Ambystoma californiense) in conjunction with survey activities throughout the range of the species in California for the purpose of enhancing the species' survival.

Permit No. TE-101462

Applicant: Peter Sarafian, Los Osos, California

The applicant requests a permit renewal to take (harass by survey, capture, handle, and release) the Morro shoulderband snail (Banded dune) (Helminthoglypta walkeriana) in conjunction with survey activities in San Luis Obispo County, California for the purpose of enhancing the species' survival.

Permit No. TE-86356B

Applicant: SeaWorld San Diego, San Diego, California

The applicant requests a permit renewal and amendment to take (perform rescue operations, capture, handle, collect, transport, rehabilitate, mark/tag, return to wild, display for educational purposes, and perform veterinarian care) the green sea turtle (Chelonia mydas), leatherback sea turtle (Dermochelys coriacea), loggerhead sea turtle (Caretta caretta), Olive Ridley sea turtle (Lepidochelys olivacea), and Hawksbill sea turtle (Eretmochelys imbricata) in conjunction with stranded sea turtle operations, research, and enhancement of wild populations throughout the range of the species in California, Oregon, and Washington, for the purpose of enhancing the species' survival.

Permit No. TE-80703A

Applicant: Seth Reimers, San Diego, California

The applicant requests a permit amendment to take (pursuit by survey) the Quino checkerspot butterfly (Euphydryas editha quino) in conjunction with survey activities throughout the range of the species in California for the purpose of enhancing the species' survival.

Permit No. TE-181714

Applicant: Pieter Johnson, Boulder, Colorado

The applicant requests a permit amendment to take (harass by capture, handle, swab, and release) the California tiger salamander (Sonoma County Distinct Population Segment (DPS)) (Ambystoma californiense) in conjunction with genetic and hybridization research activities in throughout the range of the species in California, for the purpose of enhancing the species' survival.

Permit No. TE-217663

Applicant: Ann Dalkey, Redondo Beach, California

The applicant requests a permit renewal to take (pursuit by survey) the Palos Verdes blue butterfly (Glaucopsyche lygdamus palosverdesensis) and El Segundo blue butterfly (Euphilotes battoides allyni) in conjunction with survey activities throughout the range of the species in California for the purpose of enhancing the species' survival.

Permit No. TE-091012

Applicant: Molly Goble, San Ramon, California

The applicant requests a permit renewal to take (harass by survey, capture, handle, and release) the California tiger salamander (Santa Barbara County and Sonoma County Distinct Population Segment (DPS)) (Ambystoma californiense) in conjunction with survey activities throughout the range of the species in California for the purpose of enhancing the species' survival.

Permit No. TE-039460

Applicant: Thomas Olson, Lompoc, California

The applicant requests a permit renewal to take (harass by survey, capture, handle, mark, collect tissues samples, and release) the California tiger salamander (Santa Barbara County Distinct Population Segment (DPS)) (Ambystoma californiense) in conjunction with survey and research activities throughout the range of the species in California for the purpose of enhancing the species' survival.

Permit No. TE-71409C

Applicant: Juliana Woodruff, Benicia, California

The applicant requests a new permit to take (harass by survey, capture, handle, and release) the California tiger salamander (Santa Barbara County and Sonoma County Distinct Population Segment (DPS)) (Ambystoma californiense) and Sierra Nevada yellow-legged frog (Rana sierrae) in conjunction with survey activities throughout the range of the species in California for the purpose of enhancing the species' survival.

Permit No. TE-831207

Applicant: Karen Kirtland, Riverside, California

The applicant requests a permit renewal to take (harass by survey, capture, handle, and release) the San Bernardino Merriam's kangaroo rat (Dipodomys merriami parvus), Stephens' kangaroo rat (Dipodomys stephensi), and Pacific pocket mouse (Perognathus longimembris pacificus) in conjunction with survey activities throughout the range of the species in California for the purpose of enhancing the species' survival.

Permit No. TE-006328

Applicant: Michael Drake, Tehachapi, California

The applicant requests a permit renewal and amendment to take (harass by survey, capture, handle, and release) the Fresno kangaroo rat (Dipodomys nitratoides exilis), Tipton kangaroo rat (Dipodomys nitratoides nitratoides), giant kangaroo rat (Dipodomys ingens), Morro Bay kangaroo rat (Dipodomys heermanni morroensis), and Stephens' kangaroo rat (Dipodomys stephensi); take (pursuit by survey) the Quino checkerspot butterfly (Euphydryas editha quino), and Delhi Sands flower-loving fly (Rhaphiomidas terminatus abdominalis) in conjunction with survey activities throughout the range of the species in California for the purpose of enhancing the species' survival.

Permit No. TE-72549C

Applicant: Marty Lewis, Carson, California

The applicant requests a new permit to take (harass by survey, capture, handle, release, collect vouchers, and collect branchiopod cysts) the San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-161496

Applicant: Portia Halbert, Felton, California

The applicant requests a permit renewal and amendment to take (harass by survey, capture, handle, and release) the San Francisco garter snake (Thamnophis sirtalis tetrataenia) in conjunction with survey and habitat enhancement activities in San Mateo and Santa Cruz counties, California for the purpose of enhancing the species' survival.

Permit No. TE-117947

Applicant: Kevin Clark, San Diego, California

The applicant requests a permit renewal and amendment to take (locate and monitor nests, capture, band, and release) the least Bell's vireo (Vireo bellii pusillus); take (harass by survey, locate and monitor nests, and remove brown-headed cowbird (Molothrus ater) eggs and chicks from parasitized nests) the southwestern willow flycatcher (Empidonax traillii extimus); take (harass by survey and locate and monitor nests) the California least tern (Sternula antillarum browni) (Sterna a. browni); and take (harass by survey, capture, handle, release, collect vouchers, and collect branchiopod cysts) the San Diego fairy shrimp (Branchinecta sandiegonensis), Riverside fairy shrimp (Streptocephalus woottoni), and vernal pool tadpole shrimp (Lepidurus packardi) in conjunction with survey and population monitoring activities throughout the range of the species in California for the purpose of enhancing the species' survival.

Permit No. TE-804203

Applicant: Stephen Myers, Moreno Valley, California

The applicant requests a permit renewal to take (locate and monitor nests, remove brown-headed cowbird eggs and chicks from parasitized nests, capture, handle, band, and release) the least Bell's vireo (Vireo belli pusillus); take (harass by survey and locate and monitor nests) the southwestern willow flycatcher (Empidonax traillii extimus); take (harass by survey) the Yuma clapper rail (Yuma Ridgway's r.) (Rallus longirostris yumanensis) (R. obsoletus y.); take (pursuit by survey) the Quino checkerspot butterfly (Euphydryas editha quino); and take (harass by survey, capture, handle, and release) the San Bernardino Merriam's kangaroo rat (Dipodomys merriami parvus) and Stephens' kangaroo rat (Dipodomys stephensi) in conjunction with survey and population monitoring activities throughout the range of the species in California and Nevada for the purpose of enhancing the species' survival.

Permit No. TE-34570A

Applicant: San Francisco Bay Bird Observatory, Milpitas, California

The applicant requests a permit renewal to take (harass by survey, locate and monitor nests, and utilize cameras) the California least tern (Sternula antillarum browni) (Sterna a. browni) in conjunction with survey, population monitoring, and research activities throughout the range of the species in California for the purpose of enhancing the species' survival.

Permit No. TE-062907

Applicant: Andrew Forde, Camarillo, California

The applicant requests a permit renewal and amendment to take (locate and monitor nests and remove brown-headed cowbird (Molothrus ater) eggs and chicks from parasitized nests) the least Bell's vireo (Vireo bellii pusillus) and take (harass by survey, locate and monitor nests, and remove brown-headed cowbird (Molothrus ater) eggs and chicks from parasitized nests) the southwestern willow flycatcher (Empidonax traillii extimus); in conjunction with survey and population monitoring activities throughout the range of the species in California and Nevada for the purpose of enhancing the species' survival.

Permit No. TE-72875C

Applicant: Ian Boyd, Fair Oaks, California

The applicant requests a new permit to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-14231A

Applicant: Caesara Brungraber, Bend, Oregon

The applicant requests a permit renewal and amendment to take (harass by survey, capture, handle, release, collect vouchers, collect branchiopod cysts, and process vernal pool soil samples) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); and take (pursuit by survey) the Quino checkerspot butterfly (Euphydryas editha quino) in conjunction with survey activities throughout the range of the species in California for the purpose of enhancing the species' survival.

Permit No. TE-11271B

Applicant: Heron Pacific, LLC, Rocklin, California

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); take (harass by survey, capture, handle, and release) the California tiger salamander (Santa Barbara County and Sonoma County Distinct Population Segment (DPS)) (Ambystoma californiense), and giant kangaroo rat (Dipodomys ingens) in conjunction with survey activities throughout the range of the species in California for the purpose of enhancing the species' survival.

Permit No. TE-036499

Applicant: Golden Gate National Recreation Area, San Francisco, California

The applicant requests a permit amendment to take (harass by survey, capture, handle, and release while conducting educational workshops) the tidewater goby (Eucyclogobius newberryi) in conjunction with scientific educational activities within the Golden Gate National Recreation Area in California for the purpose of enhancing the species' survival.

Permit No. TE-74980C

Applicant: Plumas Audubon Society, Quincy, California

The applicant requests a permit to take (harass by survey, capture, handle, and release) the Sierra Nevada yellow-legged frog (Rana sierrae) and mountain yellow-legged frog ((northern California DPS) (Rana muscosa)) in conjunction with survey activities throughout the range of the species in California for the purpose of enhancing the species' survival.

Permit No. TE-073205

Applicant: Cristina Sandoval, Goleta, California

The applicant requests a permit renewal to take (harass by survey, locate and monitor nests, use decoys, and play taped vocalizations) the California least tern (Sternula antillarum browni) (Sterna a. browni) in conjunction with survey, population monitoring activities, and research activities in Santa Barbara County, California for the purpose of enhancing the species' survival.

Permit No. TE-05661B

Applicant: Jennifer Gold, Santa Barbara, California

The applicant requests a permit renewal to take (harass by survey, locate and monitor nests, and install symbolic fencing) the California least tern (Sternula antillarum browni) in conjunction with survey, population monitoring, and research activities throughout the range of the species in California for the purpose of enhancing the species' survival.

Permit No. TE-75492C

Applicant: Susan Bennett, San Francisco, California

The applicant requests a new permit to take (harass by survey, capture, handle, and release) the San Francisco garter snake (Thamnophis sirtalis tetrataenia), and take (pursuit by survey) the mission blue butterfly (Icaricia icarioides missionensis) and San Bruno elfin butterfly (Callophrys mossii bayensis) in conjunction with survey activities throughout the range of the species in California for the purpose of enhancing the species' survival.

Permit No. TE-815537

Applicant: Swaim Biological Inc., Livermore, California

The applicant requests a permit renewal and amendment to take (harass by survey, capture, handle, insert passive integrated transponder tags, collect tissue samples, and release) the San Francisco garter snake (Thamnophis sirtalis tetrataenia); and take (harass by survey, capture, handle, and release) the California tiger salamander (Santa Barbara County and Sonoma County Distinct Population Segment (DPS)) (Ambystoma californiense) in conjunction with survey, research, and educational workshop activities throughout the range of the species in California for the purpose of enhancing the species' survival.

Permit No. TE-051248

Applicant: Paul Lemons, San Diego, California

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); take (pursuit by survey) the Quino checkerspot butterfly (Euphydryas editha quino); and take (harass by survey) the southwestern willow flycatcher (Empidonax traillii extimus) in conjunction with survey activities throughout the range of the species in California for the purpose of enhancing the species' survival.

Permit No. TE-75776C

Applicant: Melanie Madden, Encinitas, California

The applicant requests a new permit to take (harass by survey, locate and monitor nests, capture, handle, band, and remove brown-headed cowbird (Molothrus ater) eggs and chicks from parasitized nests) the least Bell's vireo (Vireo bellii pusillus) and southwestern willow flycatcher (Empidonax traillii extimus); in conjunction with survey, population monitoring, and research activities throughout the range of the species in California for the purpose of enhancing the species' survival.

Permit No. TE-62868B

Applicant: The Klamath Tribes, Chiloquin, Oregon

The applicant requests a permit to take (harass by survey, capture, handle, transport, collect eggs, captive rear, maintain in captivity in artificial ponds, test for disease, tag, and release) the Lost River sucker (Deltistes luxatus) and shortnose sucker (Chasmistes brevirostris) in conjunction with a captive rearing and release program, population studies, and research activities throughout the range of each species in Oregon for the purpose of enhancing the species' survival.

Public Comments

We invite public review and comment on each of these recovery permit applications. Comments and materials we receive will be available for public inspection, by appointment, during normal business hours at the address in ADDRESSES. Before including your address, phone number, email address, or other personal identifying information in your comment, you should be aware that your entire comment—including your personal identifying information—may be made publicly available at any time. While you can ask us in your comment to withhold your personal identifying information from public review, we cannot guarantee that we will be able to do so.

Karen Jensen,
Acting Regional Director, Pacific Southwest Region, Sacramento, California.

[FR Doc. 2018-10956 Filed 5-22-18; 8:45 am]

BILLING CODE 4333-15-P